DEPARTMENT OF EDUCATION

Institute of Education Sciences—Notice Inviting Public Comments on Plan for Addressing Long-Term Research Priorities

AGENCY: Institute of Education Sciences, Department of Education.

ACTION: Notice inviting public comments on plan for addressing Institute priorities.

SUMMARY: The Director of the Institute of Education Sciences (Institute) invites comments on the Institute's plan for addressing the long-term research priorities approved by the National Board for Education Sciences (Board).

DATES: We must receive your comments on or before September 1, 2006.

ADDRESSES: Address all comments about this plan to Elizabeth Payer, U.S. Department of Education, 555 New Jersey Avenue, NW., Room 602c, Capitol Place, Washington, DC 20208. If you prefer to send your comments through the Internet, use the following address: elizabeth.payer@ed.gov.

You must include the term “Plan for Addressing Priorities” in the subject line of your electronic message.

FOR FURTHER INFORMATION CONTACT: Elizabeth Payer. Telephone: (202) 219-1310.

If you use a telecommunications device for the deaf (TDD), you may call the Federal Relay Service (FRS) at 1-800-877-8339 between 8 a.m. and 4 p.m., eastern time, Monday through Friday.

Individuals with disabilities may obtain this document in an alternative format (e.g., Braille, large print, audiotape, or computer diskette) on request to the contact person listed under FOR FURTHER INFORMATION CONTACT.

Invitation to Comment

We invite you to submit comments regarding this plan. We urge you to identify clearly the specific area of the plan that each comment addresses and to arrange your comments in the same order as the plan.

During and after the comment period, you may inspect all public comments about this plan in room 602q, 555 New Jersey Avenue, NW., Capitol Place, Washington, DC, between the hours of 8:30 a.m. and 4 p.m., eastern time, Monday through Friday of each week except Federal holidays.

Assistance to Individuals With Disabilities in Reviewing the Record

On request, we will supply an appropriate aid, such as a reader or print magnifier, to an individual with a disability who needs assistance to review the comments or other documents in the public rulemaking record for this plan. If you want to schedule an appointment for this type of aid, please contact the person listed under FOR FURTHER INFORMATION CONTACT.

SUPPLEMENTARY INFORMATION:

Background

Section 115 of the Education Sciences Reform Act of 2002 (20 U.S.C. 9515) requires that the Director propose to the Board long-term research priorities for the Institute and that, upon the Board's approval of the priorities, the Director make the Institute's plan for addressing the priorities available for public comment.

On June 16, 2005, the Institute published a notice inviting comments on the priorities it planned to propose to the Board (70 FR 35072). During its meeting on September 6 through 7, 2005, the Board approved certain long-term research priorities for the Institute. (The Board-approved priorities can be found at the following Web site: http://ies.ed.gov/director/board/priorities.asp.) The plan attached to this notice describes the Institute's plan for addressing those priorities.

Through this notice, the Director seeks public comment before finalizing the Institute's plan for addressing the Board-approved priorities.

Electronic Access to This Document

You may review this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 27, 2006.
Grover J. Whitehurst,
Director of the Institute of Education Sciences.

BILLING CODE 4000-01-P

[FR Doc. 06-5959 Filed 6-30-06; 8:45 am]

BILLING CODE 4000-01-C